NUCLEAR REGULATORY COMMISSION

[Docket No. 50-309]

Maine Yankee Atomic Power Company, et al., Maine Yankee Atomic Power Station; Notice of Receipt and Availability for Comment of License Termination Plan

The Nuclear Regulatory Commission (NRC) is in receipt of and is making available for public inspection and comment the License Termination Plan (LTP) for the Maine Yankee Atomic Power Station (MYAPS) located in Lincoln County, Maine.

Maine Yankee Atomic Power Company (MYAPC, or the licensee) announced permanent cessation of power operations of MYAPS on August 7, 1997. In accordance with NRC regulations, MYAPC submitted a Post-Shutdown Decommissioning Activities Report (PSDAR) for MYAPS to the NRC on August 27, 1997. The facility is undergoing active decontamination and dismantlement.

In accordance with 10 CFR 50.82(a)(9), all power reactor licensees must submit an application for termination of their license. The application for termination of license must be accompanied or preceded by an LTP to be submitted for NRC approval. If found acceptable by the NRC staff, the LTP is approved by license amendment, subject to such conditions and limitations as the NRC staff deems appropriate and necessary. MYAPC submitted the proposed LTP for MYAPS by application dated January 13, 2000. In accordance with 10 CFR 20.1405 and 10 CFR 50.82(a)(9)(iii), the NRC is providing notice to individuals in the vicinity of the site that the NRC is in receipt of the MYAPS LTP, and will accept comments from affected parties. In accordance with 10 CFR 50.82(a)(9)(iii), the NRC is also providing notice that the NRC staff will conduct a meeting to discuss the MYAPS LTP on Monday, May 15, 2000, at 7:00 p.m. at Wiscasset High School, Wiscasset, Maine.

The MYAPS LTP is available for public inspection at the Commission's Public Document Room, The Gelman Building, 2120 L Street, N.W, Washington, DC 20037. An electronic version of the LTP may be viewed through the NRC ADAMS system, accession number ML003676560 or the Maine Yankee Atomic Power Company web site, www.maineyankee.com.

Comments regarding the MYAPS LTP may be submitted in writing and addressed to Mr. Michael Webb, Mail Stop O-11-D19, Project Directorate IV and Decommissioning, Division of Licensing Project Management, Office of Nuclear Reactor Regulation, U.S. Nuclear Regulatory Commission, Washington, DC 20555-0001, telephone (301) 415-1347 or e-mail mkw@nrc.gov.

For the Nuclear Regulatory Commission.
Dated at Rockville, Maryland, this 16th day of March 2000.
Michael T. Masnik,
Chief, Decommissioning Section, Project Directorate IV and Decommissioning, Division of Licensing Project Management, Office of Nuclear Reactor Regulation.

[FR Doc. 00-7242 Filed 3-22-00; 8:45 am]

BILLING CODE 7590-01-P